CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed renewal of its Senior Corps Project Progress Report (PPR)—OMB Control Number 3045-0033, with an expiration date of August 31, 2016. The Senior Corps PPR has two components: (1) Narratives and work plans, and (2) the Progress Report Supplement (PRS) which is an annual survey of volunteer demographics and grantee characteristics. The resulting data is used by grantees and CNCS to track performance and inform continued grant funding support, as well as to identify trends and to support management and analysis.

Copies of the information collection request can be obtained by contacting the office listed in the Addresses section of this Notice.

DATES: Written comments must be submitted to the individual and office listed in the ADDRESSES section by August 9, 2016.

ADDRESSES: You may submit comments, identified by the title of the information collection activity, by any of the following methods:

(1) By mail sent to: Corporation for National and Community Service, Corporation for National and Community Service, Senior Corps; Attention Ms. Jill Sears, Program Officer; 250 E Street SW., Washington, DC 20525.

(2) By hand delivery or by courier to the CNCS mailroom on the 4th Floor at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Jill Sears, (202) 606-7577, or by email at jsears@cns.gov.

SUPPLEMENTARY INFORMATION:

CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Progress Report (PPR) was designed to assure that grantees of the Senior Corps' programs (RSVP, Foster Grandparent and Senior Companion Programs) address and fulfill legislated program purposes; meet agency program management and grant requirements; track and measure progress to benefit the local project and its contributions to senior volunteers and the community; and to report progress toward work plan objectives agreed upon in the granting of the award. The resulting data is used by grantees and CNCS to track performance and inform continued grant funding support, as well as to identify trends and to support management and analysis.

Current Action

CNCS seeks to renew and revise the current OMB approved Progress Report. In August of 2015, Senior Corps revised its OMB approved Grant Application Instructions. The revised Grant Application Instructions incorporated a revised standard national performance measures framework for Senior Corps programs. The revised PPR will align to the national performance measures revisions and allow grantees to enter actual data relative to the revised framework.

The revised PPR will be used in the same manner as the existing report. CNCS also seeks to continue using the current report until the revised report is approved by OMB. The current application is due to expire on August 31, 2016.

Type of Review: Renewal.

Agency: Corporation for National and Community Service.

Title: Senior Corps Project Progress Report.

OMB Number: 3045-0033.

Agency Number: CNCS Form 1020.

Affected Public: Sponsors of Senior Corps grants.

Total Respondents: 1,250.

Frequency: Work plans and narratives: Semi-Annual. Progress Report Supplement: Annual.

Average Time per Response: Work plans and narratives: Four hours. Progress Report.

Supplement: Eight hours.

Estimated Total Burden Hours: 20,000 hours.

Total Burden Cost (Capital/Startup): None.

Total Burden Cost (Operating/Maintenance): None.

Comments submitted in response to this notice will be summarized and/or included in the request for Office of Management and Budget approval of the information collection request; they will also become a matter of public record.

Dated: June 6, 2016.
Mikel Herrington,
Acting Director Senior Corps.

[FR Doc. 2016-13702 Filed 6-9-16; 8:45 am]

BILLING CODE 6050-28-P